SECURITIES AND EXCHANGE COMMISSION

Submission for OMB Review; Comment Request

Upon Written Request, Copies Available From: Securities and Exchange Commission, Office of Filings and Information Services, Washington, DC 20549.

Extension:

Rule 31, SEC File No. 270-537, OMB Control No. 3235-0597

Notice is hereby given that pursuant to the Paperwork Reduction Act of 1995 (44 U.S.C. 3501 et seq.) the Securities and Exchange Commission (“Commission”) has submitted to the Office of Management and Budget a request for extension of the previously approved collection of information discussed below.

Section 31 of the Securities Exchange Act of 1934 (15 U.S.C. 78ee) requires the Commission to collect fees and assessments from national securities exchanges and national securities associations (collectively, “self-regulatory organizations” or “SROs”) based on the volume of their securities transactions. To collect the proper amounts, the Commission adopted Rule 31 (17 CFR 240.31) and Form R31 (17 CFR 240.11) under the Exchange Act whereby the SROs must report to the Commission the volume of their securities transaction and the Commission, based on that data, calculates the amount of fees and assessments that the SROs owe pursuant to Section 31. Rule 31 and Form R31 require the SROs to provide this data on a monthly basis.

The Commission estimates that each respondent makes approximately 12 such filings on an annual basis at an average hourly burden of approximately 1.6 hours per response. Currently, 15 respondents (14 national securities exchanges and one national securities association) are subject to the collection of information requirements of Rule 31. The Commission estimates that the total burden for all respondents is 288 hours (12 filings/respondent per year × 1.6 hours/filing × 15 respondents) per year.

An agency may not conduct or sponsor, and a person is not required to respond to, a collection of information unless it displays a currently valid control number.

Comments regarding the above information should be directed to the following persons: (i) Desk Officer for the Securities and Exchange Commission, Office of Information and Regulatory Affairs, Office of Management and Budget, Room 10102, New Executive Office Building, Washington, DC 20503 or by sending an e-mail to: David_Rostker@omb.eop.gov; and (ii) R. Corey Booth, Director/Chief Information Officer, Securities and Exchange Commission, c/o Shirley Martinson, 6432 General Green Way, Alexandria, VA 22312 or by sending an e-mail to: PRA_Mailbox@sec.gov. Comments must be submitted to the Office of Management and Budget within 30 days of this notice.

Dated: June 4, 2007.
Florence E. Harmon,
Deputy Secretary.

[FR Doc. E7-11156 Filed 6-8-07; 8:45 am]

BILLING CODE 8010-01-P